DEPARTMENT OF ENERGY

Federal Energy Regulatory Commission

Notice of Application Accepted for Filing, Soliciting Motions To Intervene and Protests, Ready for Environmental Analysis, and Soliciting Comments, Terms and Conditions, Recommendations, and Prescriptions

April 10, 2001.

Take notice that the following hydroelectric application has been filed with the Commission and is available for public inspection:

a. Type of Application: Exemption for a small existing hydroelectric power project that has an installed capacity of 5 megawatts or less, from licensing under the Federal Power Act.

b. Project No.: P-11870-000.

c. Date filed: January 8, 2001.

d. Applicant: Goodrich Falls Hydro Electric Company.

e. Name of Project: Goodrich Falls Project.

f. Location: On the Ellis River, in the Town of Bartlett, Carroll County, New Hampshire. The project would not use federal lands.

g. Filed Pursuant to: Public Utility Regulatory Policies Act of 1978, 16 USC §§ 2705 and 2708.

h. Applicant Contact: Ms. Maureen Winters, Project Manager, Kleinschmidt Associates, Energy & Water Resources Consultants 75 Main Street, Pittsfield Maine 04967, (207) 487-3328.

i. FERC Contact: John Ramer, (202) 219-2833, John. Ramer@ferc.fed.us.

j. Deadline for filing motions to intervene and protests, comments, and terms and conditions, recommendations, and prescriptions: 60 days from the issuance of this notice.

All documents (original and eight copies) should be filed with: David P. Boergers, Secretary, Federal Energy Regulatory Commission, 888 First Street, NE, Washington, DC 20426. Comments, protests and interventions may be filed electronically via the internet in lieu of paper. See 18 CFR 385.2001(a)(1)(iii) and the instructions on the Commission's web site at http://www.ferc.fed.us/efi/doorbell.htm.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. The application has been accepted for filing and is now ready for environmental analysis.

l. Project Description: The Goodrich Falls Project consists of: (1) An existing 157-foot-long and 25-foot-high dam with an integrated 18 foot by 23 foot concrete intake; (20) a 4.5-foot-diameter, 150-foot-long steel penstock; (3) an existing 2.1-acre, 920-foot-long by 100-foot-wide reservoir with an average 5 foot and a maximum gross storage capacity of 2.1-acre-feet; (4) a 25 foot by 30 foot concrete powerhouse containing one generating unit with a total installed capacity of 550 kilowatts; (5) an existing 250-foot-long transmission line; and (6) appurtenant facilities. The project is estimated to generate an average of 2 million kilowatthours annually. The dam and existing project facilities are owned by the applicant.

m. A copy of the application is available for inspection and reproduction at the Commission's Public Reference Room, located at 888 First Street, NE., Room 2-A, Washington, DC 20426, or by calling (202) 208-1371. The application may be viewed on http://www.ferc.fed.us/online/rims.htm (call (202) 208-2222 fo assistance). A copy is also available for inspection and reproduction at the address in item “h” above.

n. Any qualified applicant desiring to file a competing application must submit to the Commission, on or before the specified deadline date for the particular application, a competing development application, or a notice of intent to file such an application. Submission of a timely notice of intent allows an interested person to file the competing development application no later than 120 days after the specified deadline date for the particular application. Applications for preliminary permits will not be accepted in response to this notice.

A notice of intent must specify the exact name, business address, and telephone number of the prospective applicant, and must include an unequivocal statement of intent to submit, if such an application may be filed, either a preliminary permit application or a exemption application. A notice of intent must be served on the applicant(s) named in this public notice.

Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

The Commission directs, pursuant to Section 4.34(b) of the Regulations (see Order No. 533 issued May 8, 1991, 56 FR 23108, May 20, 1991) that all comments, recommendations, terms and conditions and prescriptions concerning the application be filed with the Commission within 60 days from the issuance date of this notice. All reply comments must be filed with the Commission within 105 days from the date of this notice.

Anyone may obtain an extension of time for these deadlines from the Commission only upon a showing of good cause or extraordinary circumstances in accordance with 18 CFR 385.2008.

All filings must (1) bear in all capital letters the title “PROTEST”, “MOTION TO INTERVENE”, “NOTICE OF INTENT TO FILE COMPETING APPLICATION,” “COMPETING APPLICATION,” “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

David P. Boergers,
Secretary.

[FR Doc. 01-9298 Filed 4-13-01; 8:45 am]

BILLING CODE 6717-01-M